DEPARTMENT OF HEALTH AND HUMAN SERVICES

Administration for Children and Families

Proposed Information Collection Activity; Personal Responsibility Education Program (PREP) Performance Measures and Adulthood Preparation Subjects (PMAPS) Studies—Data Collection Related to the Performance Measures Study—Extension (OMB #0970-0497).

AGENCY: Office of Planning, Research, and Evaluation; Administration for Children and Families; HHS.

ACTION: Request for public comment.

SUMMARY: A goal of the Performance Measures and Adulthood Preparation Subjects (PMAPS) studies is to collect, analyze, and report on performance measure data for the Personal Responsibility Education Program (PREP) programs. The Office of Planning, Research, and Evaluation (OPRE) and the Family and Youth Services Bureau (FYSB) in the Administration for Children and Families (ACF) request a revision to a currently approved information collection (OMB No. 0970-0497; expiration date: 04/30/2020). The purpose of the request is to make adaptions to the participant entry and exit surveys, and continue the ongoing data collection of the performance measures from PREP grantees.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The PMAPS studies consist of two components: The Performance Measures Study and the Adulthood Preparation Subjects Study. The data collection for the Adulthood Preparation Subjects Study is complete. This notice is specific to a request for an extension of data collection activities for the Performance Measures Study only. The Performance Measures Study component includes collection and analysis of performance measure data from State PREP (SPREP), Tribal PREP (TPREP), Competitive PREP (CPREP), and Personal Responsibility Education Innovative Strategies (PREIS) grantees. Data will be used to determine if PREP and PREIS grantees are meeting performance benchmarks related to the program's mission and priorities.

This request includes the development of adapted participant entry and exit surveys for middle school students (6th, 7th, and 8th grade youth) that exclude the most sensitive questions pertaining to sexual behavior. This is because some of the PREP middle school curricula do not include topics on sexual behavior, i.e., focus only on healthy relationship education. The adapted surveys will be used by all grantees that serve middle school youth. In addition, some minor edits have been made to the high school surveys.

Respondents: Performance measurement data collection instruments will be administered to individuals representing SPREP, TPREP, CPREP, and PREIS grantees, their sub-awardees, and program participants.

Annual Burden Estimates
Instrument | Total number of respondents | Annual number of respondents | Number of responses per respondent | Average burden hours per response | Annual burden hours
PREP Participant Entry Survey | 319,673 | 106,558 | 1 | 0.15 | 15,984
PREP Participant Exit Survey | 291,624 | 97,208 | 1 | 0.13333 | 12,961
Performance Reporting System Data Form—State grantees | 153 | 51 | 2 | 18 | 1,836
Performance Reporting System Data Form—TPREP grantees | 28 | 9 | 2 | 18 | 324
Performance Reporting System Data Form—CPREP grantees | 75 | 25 | 2 | 14 | 700
Performance Reporting System Data Form—PREIS grantees | 38 | 13 | 2 | 14 | 364
Performance Reporting System Data Form—State sub-awardees | 987 | 329 | 2 | 14 | 9,212
Performance Reporting System Data Form—TPREP sub-awardees | 85 | 28 | 2 | 14 | 784
Performance Reporting System Data Form—CPREP sub-awardees | 110 | 37 | 2 | 12 | 888
Performance Reporting System Data Form—PREIS sub-awardees | 66 | 22 | 2 | 12 | 528

Estimated Total Annual Burden Hours: 43,581.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 50503, Pub. L. 115-123.

Mary B. Jones,
ACF/OPRE Certifying Officer.

[FR Doc. 2020-04085 Filed 2-27-20; 8:45 am]

BILLING CODE 4184-37-P